DEPARTMENT OF HEALTH AND HUMAN SERVICES

Administration for Children and Families

Submission for OMB Review; State Plan Child Support Collection and Establishment of Paternity Title IV-D OCSE-100 and OCSE-21-U4

AGENCY: Office of Child Support Enforcement, Administration for Children and Families, HHS.

ACTION: Request for public comment.

SUMMARY: The Office of Child Support Enforcement (OCSE), Administration for Children and Families (ACF), U.S. Department of Health and Human Services (HHS), is requesting a three-year extension of the forms OCSE-21-U4: Transmittal and Notice of Approval of State Plan Material for: Title IV-D of the Social Security Act and OCSE-100: State Plan (OMB #0970-0017, expiration 7/31/2020).

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: ACF Reports Clearance Officer. All requests, emailed or written, should be identified by the title of the information collection.

SUPPLEMENTARY INFORMATION: Description: OCSE has approved an IV-D state plan for each state. Federal regulations require states to amend their state plans only when necessary to reflect new or revised federal statutes, regulations, or material changes in any state laws, regulations, policies, or IV-D agency procedures. The requirement for submission of a state plan and plan amendments for the Child Support Enforcement Program is found in sections 452, 454, and 466 of the Social Security Act. OCSE made minor revisions to the OCSE-21-U4 to remove outdated language and add an option for states to electronically request or renew an exemption from the mandatory laws and procedures in Section 466 of the Social Security Act via the online state plan system. These revisions do not increase the burden of the OCSE-21-U4.

Respondents: State IV-D Agencies.

Annual Burden Estimates
Instrument | Total number of respondents | Total number of responses per respondent | Average burden hours per response | Total burden hours
State Plan (OCSE-100) | 54 | 12 | .5 | 324
State Plan Transmittal (OCSE-21-U4) | 54 | 12 | .25 | 162

Estimated Total Annual Burden Hours: 486.

(Authority: Sections 452, 454, and 466 of the Social Security Act)

Mary B. Jones,
ACF/OPRE Certifying Officer.

[FR Doc. 2020-06869 Filed 4-1-20; 8:45 am]

BILLING CODE 4184-41-P